DEPARTMENT OF COMMERCE

National Telecommunications and Information Administration

Recruitment of First Responder Network Authority Board Members

AGENCY: National Telecommunications and Information Administration, U.S. Department of Commerce.

ACTION: Notice.

SUMMARY: The National Telecommunications and Information Administration (NTIA) issues this Notice on behalf of the First Responder Network Authority (FirstNet) as part of the annual process to seek expressions of interest from individuals who would like to serve on the FirstNet Board.¹ Four of the 12 appointments of non-permanent members to the FirstNet Board are expiring in August 2014. The Secretary of Commerce may reappoint individuals to serve on the FirstNet Board provided they have not served two consecutive full three-year terms.² NTIA issues this Notice to obtain expressions of interest in the event the Secretary must fill any vacancies arising on the Board. Expressions of interest will be accepted until May 23, 2014.

¹ The Middle Class Tax Relief and Job Creation Act of 2012 (Act) created FirstNet as an independent authority within NTIA, directing it to establish a single nationwide interoperable broadband network. Middle Class Tax Relief and Job Creation Act of 2012, Public Law 112-96, 126 Stat. 156 (“Act”), to be codified at 47 U.S.C. 1401 et. seq. The Act requires that FirstNet be led by a 15-person Board, with the Secretary of Homeland Security, the Attorney General, and the Director of the Office of Management and Budget serving as permanent members of the Board. 47 U.S.C.1424(b)(1).

² 47 U.S.C. 1424(c)(2)(A)(ii).

DATES: Expressions of Interest must be postmarked or electronically transmitted on or before May 23, 2014.

ADDRESSES: Persons wishing to submit expressions of interest as described below should send that information to: Stephen Fletcher, Associate Administrator of NTIA's Office of Public Safety Communications by email to FirstNetBoard@ntia.doc.gov; by U.S. mail or commercial delivery service to: Office of Public Safety Communications, National Telecommunications and Information Administration, 1401 Constitution Avenue NW., Room 7324, Washington, DC 20230; or by facsimile transmission to (202) 501-0536. Please note that all material sent via the U.S. Postal Service (including “Overnight” or “Express Mail”) is subject to delivery delays of up to two weeks due to mail security procedures.

FOR FURTHER INFORMATION CONTACT: Stephen Fletcher, Associate Administrator, Office of Public Safety Communications, National Telecommunications and Information Administration, U.S. Department of Commerce, 1401 Constitution Avenue NW., Room 7324, Washington, DC 20230; telephone: (202) 482-5802; email: sfletcher@ntia.doc.gov. Please direct media inquiries to NTIA's Office of Public Affairs, (202) 482-7002.

SUPPLEMENTARY INFORMATION:

I. Background and Authority

The Middle Class Tax Relief and Job Creation Act of 2012 (Act) created the First Responder Network Authority (FirstNet) as an independent authority within NTIA and charged it with establishing and overseeing a nationwide, interoperable public safety broadband network, based on a single, national network architecture.³ FirstNet is responsible for, at a minimum, ensuring nationwide standards for use and access of the network; issuing open, transparent, and competitive requests for proposals (RFPs) to build, operate, and maintain the network; encouraging these RFPs to leverage, to the maximum extent economically desirable, existing commercial wireless infrastructure to speed deployment of the network; and managing and overseeing contracts with non-federal entities to build, operate, and maintain the network.⁴ FirstNet holds the single public safety license granted for wireless public safety broadband deployment. The FirstNet Board is responsible for making strategic decisions about FirstNet's operations and ensuring the success of the nationwide network.

³ 47 U.S.C. 1422(b).

⁴ 47 U.S.C. 1426(b)(1).

II. Structure

The FirstNet Board is composed of 15 voting members. The Act names the U.S. Attorney General, the Director of the Office of Management and Budget, and the Secretary of the Department of Homeland Security as permanent members of the Board. The Secretary of Commerce appoints the non-permanent members of the FirstNet Board.⁵ The Act requires each Board member to have experience or expertise in at least one of the following substantive areas: public safety, network, technical, and/or financial.⁶ Additionally, the composition of the FirstNet Board must satisfy the other requirements specified in the Act, including that: (i) At least three Board members have served as public safety professionals; (ii) at least three members represent the collective interests of states, localities, tribes, and territories; and (iii) its members reflect geographic and regional, as well as rural and urban, representation.⁷ An individual Board member may satisfy more than one of these requirements. The current non-permanent FirstNet Board members are (noting length of term):

⁵ 47 U.S.C. 1424(b).

⁶ 47 U.S.C. 1424(b)(2)(B).

⁷ 47 U.S.C. 1424(b)(2)(A).

• Samuel “Sam” Ginn (Chair), telecommunications executive (retired) (Term expires: August 2014)

• Susan Swenson (Vice Chair), telecommunications/technology executive (Term expires: August 2016)

• Barry Boniface, private equity investor and telecommunications executive (Term expires: August 2016)

• Tim Bryan, CEO, National Rural Telecommunications Cooperative (Term expires: August 2015)

• Charles “Chuck” Dowd, Assistant Chief, New York City Police Department (Term expires: August 2014)

• F. Craig Farrill, wireless telecommunications executive (Term expires: August 2015)

• Paul Fitzgerald, Sheriff, Story County, Iowa (Term expires: August 2014)

• Jeffrey Johnson, Fire Chief (retired); former Chair, State Interoperability Council, State of Oregon; CEO, Western Fire Chiefs Association (Term expires: August 2016)

• Kevin McGinnis, Chief/CEO, North East Mobile Health Services (Term expires: August 2015)

• Ed Reynolds, telecommunications executive (retired) (Term expires: August 2014)

• Teri Takai, government information technology expert; former CIO, States of Michigan and California (Term expires: August 2016)

• Wellington Webb, Founder, Webb Group International; former Mayor, Denver, Colorado (Term expires: August 2015)

More information about the FirstNet Board is available at www.firstnet.gov/about/Board. Board members will be appointed for a term of three years, and Board members may not serve more than two consecutive full three-year terms.

III. Compensation and Status as Government Employees

FirstNet Board members are appointed as special government employees. FirstNet Board members are compensated at the daily rate of basic pay for level IV of the Executive Schedule (approximately $155,000 per year).⁸ Each Board member must be a United States citizen, cannot be a registered lobbyist, and cannot be a registered agent of, employed by, or receive payments from, a foreign government.

⁸ 47 U.S.C. 1424(g).

IV. Financial Disclosure and Conflicts of Interest

FirstNet Board members must comply with certain federal conflict of interest statutes and ethics regulations, including some financial disclosure requirements. A FirstNet Board member will generally be prohibited from participating on any particular matter that will have a direct and predictable effect on his or her personal financial interests or on the interests of the appointee's spouse, minor children, or non-federal employer.

V. Selection Process

At the direction of the Secretary of Commerce, NTIA, in consultation with FirstNet, will conduct outreach to the public safety community, state and local organizations, and industry to solicit nominations for candidates to the Board who satisfy the statutory requirements for membership. In addition, by this Notice, the Secretary of Commerce, through NTIA, will accept expressions of interest until May 23, 2014 from any individual, or any organization that wishes to propose a candidate, who satisfies the statutory requirements for membership on the FirstNet Board.

All parties wishing to be considered should submit their full name, address, telephone number, email address, a current resume, and a statement of qualifications that references the Act's expertise, representational, and geographic requirements for FirstNet Board membership, as described in this Notice, along with a statement describing why they want to serve on the FirstNet Board and affirming their ability to take a regular and active role in the Board's work.

The Secretary of Commerce will select FirstNet Board candidates based on the eligibility requirements in the Act and recommendations submitted by NTIA, in consultation with the FirstNet Board's Governance and Personnel Committee. NTIA will recommend candidates based on an assessment of their qualifications as well as their demonstrated ability to work in a collaborative way to achieve the goals and objectives of FirstNet as set forth in the Act. Board candidates will be vetted through the Department of Commerce and may be subject to an appropriate background check for security clearance.

Dated: May 2, 2014.
Lawrence E. Strickling,
Assistant Secretary for Communications and Information.

[FR Doc. 2014-10562 Filed 5-7-14; 8:45 am]

BILLING CODE 3510-60-P